DEPARTMENT OF THE INTERIOR

National Park Service

Notice of Availability of the Final Environmental Impact Statement for the Arrowhead-Weston Transmission Line River Crossing/Right-of-Way Request, Saint Croix National Scenic Riverway, WI

AGENCY: National Park Service.

SUMMARY: Pursuant to section 102(2) of the National Environmental Policy Act of 1969, the National Park Service (NPS) announces the availability of the final environmental impact statement (FEIS) for the Arrowhead-Weston Transmission Line River Crossing/Right-of-Way Request, Saint Croix National Scenic Riverway, Wisconsin.

DATES: There will be a 30-day waiting period before the record of decision is signed on the final from the day the Environmental Protection Agency publishes its notice of availability in the Federal Register.

ADDRESSES: Copies of the FEIS will be sent to agencies, Tribes, and individuals that made substantive comments on the draft EIS, and to public libraries throughout the project area. Please check the Saint Croix National Scenic Riverway (SACN) website for a listing of the libraries to which the FEIS will be sent. The FEIS is approximately 600 pages in length with many figures and oversize color plates. Due to the size of the document, it was not possible to provide it over the Internet. A limited number of hardcopies are available upon request on a first-come first serve basis. Additional copies are available on compact disk. To request a hardcopy of the FEIS or a copy on compact disk, please write to the Superintendent, Saint Croix National Scenic Riverway, P.O. Box 708, St. Croix Falls, WI 54024, Attention: Kevin Iverson or telephone him at 715-483-3284, Extension 606.

FOR FURTHER INFORMATION CONTACT: Jill Medland, Planning and Compliance Specialist, Saint Croix National Scenic Riverway, P.O. Box 708, 401 Hamilton Street, St. Croix Falls, WI 54024, or by telephone 715-483-3284, Extension 609.

SUPPLEMENTARY INFORMATION: The Arrowhead-Weston Project (Project) is a 345kV Electric Transmission Line proposed by Minnesota Power, Wisconsin Public Service Corporation, and American Transmission Company (Applicant) that would run for 220 miles from Duluth, Minnesota, to Wausau, Wisconsin. The governmental entity with approval authority for the overall Project is the Public Service Commission of Wisconsin (PSCW). The PSCW approved the Project in 2001 and re-approved it in 2003. According to the Applicant, and as reflected in the PSCW decision, the purpose of the overall Project is to: (1) Strengthen the bulk transmission system by providing a second high-capacity connection across the Minnesota-Wisconsin interface; and (2) to transmit electricity from the upper Midwest to markets in the eastern Wisconsin area.

The State-approved route of the Project would cross the Namekagon River, which is part of the Riverway, in Washburn County at a location approximately 10 miles downstream of the city of Hayward, Wisconsin. The NPS has received a right-of-way (ROW) request from the Applicant to cross the Riverway with the State-approved Project. To reach a decision about the ROW request and comply with the NEPA, the NPS is preparing an EIS. The Corps of Engineers is a cooperating agency on the EIS, since they would also need to issue a permit for the river crossing.

The Applicants propose to cross the Namekagon River at an existing 161kV electric transmission line corridor granted to Xcel Energy as an easement by private landowners prior to NPS land acquisition in the area. All alternatives (except no action) would require additional right-of-way from the NPS. The following alternatives are under consideration for crossing the Namekagon River:

No Action (Deny ROW Request): 161kV line as present on 70′ wood poles (would require that the utilities go around the Namekagon River and reopening of the State process);

Alternative 1: Double circuit the 345kV and 161kV lines overhead on 145-150′ single steel poles (Applicant's preferred);

Long-span Option: Alternative 1 using long-span conductors (shorter poles set back out of line of sight from the river, fewer, but thicker conductors);

Alternative 2: Single circuit 345kV overhead on 120-130′ single steel poles, underground 161kV, transition structures at overhead to underground changeover;

Alternative 3: 161kV upgraded on 85-95′ steel poles, 345kv underground, transition structures at underground to overhead changeover;

Alternative 4: 345kv and 161kV underground, transition structures at underground to overhead changeover.

The NPS preferred alternative is alternative 1: Long-span Option.

Persons wishing to comment on the FEIS may do so by any one of several methods. They may mail comments to Superintendent, Saint Croix National Scenic Riverway, P.O. Box 708, 401 Hamilton Street, St. Croix Falls, Wisconsin 54024, Attention: Jill Medland. They also may comment via e-mail to sacn_aw_row_eis@nps.gov (include name and return address in the e-mail message). Finally, they may hand-deliver comments to Riverway Headquarters, St. Croix National Scenic Riverway, 401 Hamilton Street, St. Croix Falls, Wisconsin 54024.

The NPS's practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses available for public inspection in their entirety.

The responsible official is Ernest Quintana, Midwest Regional Director, National Park Service.

Dated: October 18, 2004.
Alan M. Hutchings,
Acting Regional Director, Midwest Region.

[FR Doc. 04-27610 Filed 12-16-04; 8:45 am]

BILLING CODE 4312-96-P